DEPARTMENT OF HEALTH AND HUMAN SERVICES

Centers for Disease Control and Prevention

[30Day-15-15GJ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

Investigating the Implementation and Evaluation of Top-ranked HSMS Elements—New—National Institute for Occupational Safety and Health (NIOSH), Centers for Disease Control and Prevention (CDC).

Background and Brief Description

NIOSH, under Public Law 91-596, sections 20 and 22 (section 20-22, Occupational Safety and Health Act of 1977) has the responsibility to conduct research relating to innovative methods, techniques, and approaches dealing with occupational safety and health problems.

This project seeks to understand the best practices for developing, implementing, and maintaining a robust risk management system (i.e. health and safety management system [HSMS]). Researchers suggest that an HSMS requires considerable knowledge, skills, abilities, and competencies from all individuals within an organization as well as focused and purposeful coordination between them.

Previous research considered the sheer number of possible choices to be a barrier to HSMS adoption. Therefore, NIOSH began to understand what the most fundamentally important elements were that support the development, implementation and maintenance of a comprehensive, effective risk-based HSMS. NIOSH surveyed practicing health and safety executives, managers, and professionals (9 total) from a variety of mining commodities to determine if they agreed on which HSMS elements and practices were most important. The results of this study suggested that the following areas require consistent focus and attention: Leadership Development; Accountability; Knowledge, Skills, and Abilities Development; System Coordination; Culture Enhancement; Behavior Optimization; and Risk Management. To date, little empirical research has been conducted to address practical research questions related to each.

Therefore, the current research task is designed to investigate research questions related to the practical purpose, implementation, and evaluation of each element: (1) How is each of these HSMS elements best executed within mining organizations?; (2) how do you know an element has been successfully implemented within the organization?; and (3) what are the barriers to implementing these HSMS elements within mining organizations?

This study employs a strictly qualitative approach to answer the research questions. A qualitative approach allows researchers to probe participants and learn about their specific experiences through in-depth examples. A protocol that will be used during an interview and/or focus group was developed. The subject matter in the protocol is focused on implementing and evaluating specific elements within managers' HSMS and possible barriers to implementation and evaluation.

NIOSH is seeking a three-year approval for this project which will target mine sites for participation by reaching out to organizational leaders/managers of health and safety at respective mines for their participation. Data collection, in the form of interviews and/or focus groups will occur to answer the questions for this study.

Respondents targeted for this study include corporate or site mine managers (also referred to in some cases as leaders, executives, coordinators or supervisors). These individuals are responsible for the day-to-day administration and/or implementation of the HSMS. In some cases, more than one individual is responsible for certain aspects of the HSMS. Therefore, depending on how these responsibilities are designated at mine sites and how many of these leaders are interested at each mine site, researchers will either facilitate a single interview or a focus group with mine site leadership.

Participants will be recruited through members of mine management using a mine recruitment script. It is estimated that a sample of up to 100 individuals (approximately 34 per year) will agree to participate among a variety of mine sites. Participants will be between the ages of 18 and 75, currently employed, and living in the United States. Participation will require no more than 60 minutes of workers' time. There is no cost to respondents other than their time.

Upon collection of the data, researchers will analyze and determine the effect that each element has on a mine's ability to develop, implement or maintain an HSMS. With that said, lines of theoretical inquiry will be used to inform the thinking behind the practical guidance ultimately provided to mining organizations. Essentially, best practices can be provided that are applicable across an HSMS, not respective to just one aspect or element. Therefore, the findings will be used to make an HSMS more feasible and applicable for the mining industry.

The total estimated burden hours are 32.

Estimated Annualized Burden Hours
Type of respondent | Form name | Number of respondents | Number of responses per respondent | Average burden per response (in hours)
Safety/health Mine Representative | Mine Manager Recruitment Script | 8 | 1 | 5/60
Safety/health Mine Manager | HSMS Interview/Focus Group Protocol | 34 | 1 | 55/60

Leroy A. Richardson,
Chief, Information Collection Review Office, Office of Scientific Integrity, Office of the Associate Director for Science, Office of the Director, Centers for Disease Control and Prevention.

[FR Doc. 2015-18455 Filed 7-27-15; 8:45 am]

BILLING CODE 4163-18-P